DEPARTMENT OF COMMERCE

International Trade Administration

[A-583-831]

Stainless Steel Sheet and Strip in Coils From Taiwan: Extension of Time Limit for Final Results of Antidumping Duty Administrative Review

AGENCY: Import Administration, International Trade Administration, Department of Commerce.

EFFECTIVE DATE: November 17, 2004.

FOR FURTHER INFORMATION CONTACT: Karine Gziryan or Melissa Blackledge, AD/CVD Operations, Office IV, Import Administration, International Trade Administration, U.S. Department of Commerce, 14th Street and Constitution Avenue, NW, Washington, DC 20230; telephone (202) 482-4081 or (202) 482-3518, respectively.

SUPPLEMENTARY INFORMATION:

Background

On August 19, 2004, the Department of Commerce (the Department) initiated an administrative review of the antidumping duty order on stainless steel sheet and strip in coils from Taiwan, covering the period July 1, 2002, through June 30, 2003. See Initiation of Antidumping and Countervailing Duty Administrative Reviews and Request for Revocation in Part, 68 FR 50750 (August 22, 2003); see also Initiation of Antidumping and Countervailing Duty Administrative Reviews, Request for Revocation in Part and Deferral of Administrative Review, 68 FR 56262 (September 30, 2003) (which was issued to initiate a review of the instant antidumping duty order with respect to one manufacturer/exporter that was inadvertently omitted from the earlier notice of initiation).

On August 9, 2004, the Department published in the Federal Register the preliminary results of review. See Stainless Steel Sheet and Strip in Coils From Taiwan: Preliminary Results and Partial Rescission of Antidumping Duty Administrative Review, 69 FR 48212. The final results of review are currently due no later than December 7, 2004.

Statutory Time Limits

Section 751(a)(3)(A) of the Tariff Act of 1930, as amended (the Act), requires the Department to make a preliminary determination in an administrative review within 245 days after the last day of the anniversary month of an order for which a review is requested and a final determination within 120 days after the date on which the preliminary determination is published. However, if it is not practicable to complete the review within these time periods, section 751(a)(3)(A) of the Act allows the Department to extend these deadlines to a maximum of 365 days and 180 days (or 300 days if the Department does not extend the time limit for the preliminary determination), respectively.

Extension of Time Limit for Final Results of Review

We have determined that it is not practicable to complete the final results of this review within the original time limit. See the memorandum from Holly A. Kuga, Senior Director, Office IV, AD/CVD Operations to Jeffrey A. May, Deputy Assistant Secretary for Import Administration, which is dated concurrently with this notice, and is on file in the Central Records Unit, room B-099 of the Department's main building. Therefore, the Department is extending the time limit for completion of the final results by 60 days. We intend to issue the final results of review no later than February 5, 2005.

This extension is in accordance with section 751(a)(3)(A) of the Act.

Dated: November 8, 2004.
Jeffrey A. May,
Deputy Assistant Secretary for Import Administration.

[FR Doc. E4-3200 Filed 11-16-04; 8:45 am]

BILLING CODE 3510-DS-S